DEPARTMENT OF THE INTERIOR

National Park Service

National Register of Historic Places; Notification of Pending Nominations and Related Actions

Nominations for the following properties being considered for listing or related actions in the National Register were received by the National Park Service before April 15, 2006.

Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by May 11, 2006.

John W. Roberts,
Acting Chief, National Register/National Historic Landmarks Program.

ARKANSAS

Carroll County

Carroll County Poor Farm Cemetery, Address Restricted, Pleasant Valley, 06000412

Clark County

Maumelle Ordnance Works Bunker #4, 4 Willastein Dr., Maumelle, 06000417

Cross County

South Elementary School, 711 E. Union Ave., Wynne, 06000419

Jefferson County

McDonald's Store #433 Sign, 1300 S. Main St., Pine Bluff, 06000411

St. Louis San Francisco (Frisco) Railway Coach #661, 2815 Dixie Woods Dr., Pine Bluff, 06000413

Logan County

Arkansas Tuberculosis Sanatorium Historic District, East end of AR 116 S, Booneville, 06000414

Madison County

St. Paul School Building, (Public Schools in the Ozarks MPS) 200 W 4th St., St. Paul, 06000416

Mississippi County

Blytheville Commercial Historic District, Main St. bet. 5th and Franklin Sts., Ash St. bet. 5th and 2nd Sts., Blytheville, 06000421

Garden Point Cemetery, 4682 West AR 140, Etowah, 06000415

Pope County

First Christian Church, 103 S. Boston Ave., Russellville, 06000418

Pulaski County

Clayborn, John Henry, House, 1800 Marshall, Little Rock, 06000420

Van Buren County

Clinton Commercial Historic District, Roughly bounded by Town Branch Creek and by AR 65B, Clinton, 06000410

HAWAII

Honolulu County

Holt, Lemon Wond, House, 3704 Anuhea St., Honolulu, 06000422

IOWA

Muscatine County

Downtown Commercial Historic District, (Muscatine, Iowa MPS) Roughly nine blks centered on 2nd St. bet. Pine and Mulberry, Muscatine, 06000423

MINNESOTA

Pope County

Little Falls and Dakota Depot, Depot Ln., Starbuck, 06000424

MONTANA

Lewis and Clark County

Home of Peace, Alexander St. bet. Brady St. and Custer Ave., Helena, 06000425

Madison County

Thexton Ranch, 335 Vaney Rd., Ennis, 06000426

NORTH CAROLINA

Forsyth County

Wachovia Building (Boundary Increase), 301 N. Main St., Winston-Salem, 06000433

PENNSYLVANIA

Berks County

Willson, Thomas A. and Co., 201 Washington St., Reading, 06000428

Lancaster County

Ephrata Commercial Historic District, portions of West Main, East Main, North State, South State Sts., and Washington Ave., Ephrata, 06000427

Speedwell Forge Mansion, 465 Speedwell Forge Rd., Elizabeth Township, 06000429

Philadelphia County

Germantown Grammar School (Boundary Increase), (Philadelphia Public Schools TR) 45 W. Haines St., Philadelphia, 06000430

Wyoming County

Noxen School, School St., Noxen Township, 06000431

UTAH

Weber County

US Forest Service Building, (Ogden Art Deco Building TR) 507 25th St., Ogden, 06000432

A request for REMOVAL has been made for the following resource:

ARKANSAS

Pulaski County

Wolf Bayou Bridge, (Historic Bridges of Arkansas MPS) Pulaski County Road 85, Scott vicinity, 04000502

[FR Doc. E6-6211 Filed 4-25-06; 8:45 am]

BILLING CODE 4312-51-P